DEPARTMENT OF JUSTICE

Notice of Lodging of Proposed Consent Decree Under the Comprehensive Environmental Response, Compensation, and Liability Act

On October 31, 2016, the Department of Justice lodged a proposed Consent Decree with the United States District Court for the District of Connecticut in the lawsuit entitled United States and State of Connecticut v. Eastgate Plaza, LLC, Civil Action No. 3:16-cv-01796.

In the Complaint, the United States, on behalf of the U.S. Environmental Protection Agency (EPA), and the State of Connecticut, on behalf of the Connecticut Department of Energy and Environmental Protection (CT DEEP), allege that the defendant, Eastgate Plaza, LLC, is liable under the Comprehensive Environmental Response, Compensation, and Liability Act (CERCLA), 42 U.S.C. 9601, et seq., in connection with the Scovill Industrial Landfill Superfund Site in Waterbury, Connecticut. The consent decree is based in part on Eastgate's limited financial circumstances. The proposed Consent Decree requires Eastgate to, among other things, pay $100,000 toward EPA's and CT DEEP's past response costs; provide access to its property to allow for remedial actions to take place; institute institutional controls to restrict development and excavation of that property; and consent to a judgment in the amount of $13.7 million, which will be placed as a lien against the property.

The publication of this notice opens a period for public comment on the Consent Decree. Comments should be addressed to the Assistant Attorney General, Environment and Natural Resources Division, and should refer to United States and State of Connecticut v. Eastgate Plaza, LLC, D.J. Ref. No. 90-11-3-11297. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $10.75 (25 cents per page reproduction cost, including Appendices), payable to the United States Treasury.

Robert E. Maher Jr.,
Assistant Chief, Environmental Enforcement Section, Environment & Natural Resources Division.

[FR Doc. 2016-26694 Filed 11-3-16; 8:45 am]

BILLING CODE 4410-15-P